DEPARTMENT OF COMMERCE

Foreign-Trade Zones Board

Order No. 1508

Grant of Authority for Subzone Status, Medline Industries, Inc., (Medical Supply Distribution), Lathrop, California

Pursuant to its authority under the Foreign-Trade Zones Act of June 18, 1934, as amended (19 U.S.C. 81a-81u), the Foreign-Trade Zones Board (the Board) adopts the following Order:

WHEREAS, the Foreign-Trade Zones Act provides for ”. . . the establishment . . . of foreign-trade zones in ports of entry of the United States, to expedite and encourage foreign commerce, and for other purposes,” and authorizes the Foreign-Trade Zones Board to grant to qualified corporations the privilege of establishing foreign-trade zones in or adjacent to U.S. Customs ports of entry;

WHEREAS, the Board's regulations (15 CFR Part 400) provide for the establishment of special-purpose subzones when existing zone facilities cannot serve the specific use involved, and when the activity results in a significant public benefit and is in the public interest;

WHEREAS, the Port of Stockton (California), grantee of Foreign-Trade Zone 231, has made application for authority to establish special-purpose subzone status at the medical supply warehousing and distribution facility of Medline Industries, Inc., in Lathrop, California (Docket 26-2006, filed 6-15-2006);

WHEREAS, notice inviting public comment was given in the Federal Register (71 FR 35610, 6-21-2006); and,

WHEREAS, the Board adopts the findings and recommendations of the examiner's report, and finds that the requirements of the FTZ Act and Board's regulations are satisfied, and that approval of the application is in the public interest;

NOW, THEREFORE, the Board hereby grants authority for subzone status for activity related to medical supply warehousing and distribution at the Medline Industries, Inc., facility located in Lathrop, California (Subzone 231A), as described in the application and Federal Register notice, and subject to the FTZ Act and the Board's regulations, including Section 400.28.

Signed at Washington, DC, this 20th day of March 2007.

David M. Spooner,
Assistant Secretary of Commerce for Import Administration,Alternate Chairman Foreign-Trade Zones Board.
Attest:
Andrew McGilvray,
Executive Secretary.

[FR Doc. E7-5715 Filed 3-27-07; 8:45 am]

BILLING CODE 3510-DS-S